DEPARTMENT OF THE INTERIOR

Geological Survey

[GX14EB00A181100; OMB Control Number 1028-0101]

Agency Information Collection Activities: The William T. Pecora Award; Application and Nomination Process

AGENCY: U.S. Geological Survey (USGS), Interior.

ACTION: Notice.

SUMMARY: In accordance with the Paperwork Reduction Act of 1995, the USGS is proposing to renew an information collection (IC).

DATES: Interested persons are invited to submit comments on or before January 22, 2018.

ADDRESSES: You may submit comments on this information collection to the Information Collection Clearance Officer, U.S. Geological Survey, 12201 Sunrise Valley Drive MS 159, Reston, VA 20192 (mail); or gs-help_infocollections@usgs.gov (email). Please reference “Information Collection 1028-0101, Pecora Award” in all correspondence.

FOR FURTHER INFORMATION CONTACT: Thomas Holm, USGS, EROS Center, 47914 252nd Street, Sioux Falls, SD 57198 (mail), by telephone (605)-594-6127, or holm@usgs.gov (email).

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed IC that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this IC. Before including your address, phone number, email address, or other personal identifying information in your comment, you should be aware that your entire comment—including your personal identifying information—may be made publicly available at any time. While you may ask us in your comment to withhold your personal identifying information from public review, we cannot guarantee that we will be able to do so.

Abstract: The William T. Pecora Award is presented annually to individuals or teams using satellite or aerial remote sensing that make outstanding contributions toward understanding the Earth (land, oceans and air), educating the next generation of scientists, informing decision makers or supporting natural or human-induced disaster response. The award is sponsored jointly by the Department of the Interior (DOI) and the National Aeronautics and Space Administration (NASA).

The award was established in 1974 to honor the memory of Dr. William T. Pecora, former Director of the USGS and Under Secretary, Department of the Interior. Dr. Pecora was a motivating force behind the establishment of a program for civil remote sensing of the Earth from space. His early vision and support helped establish what we know today as the Landsat satellite program. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 10 pages of supplemental information such as resume, publications list, and/or letters of endorsement.

Title: The Pecora Award; Application and Nomination Process

OMB Control Number: 1028-0101.

Form Number: NA.

Type of Review: Revision of a currently approved collection.

Affected Public: Individuals or households; Businesses and other academic and non-profit institutions; State, local and tribal governments.

Respondent's Obligation: None. Participation is voluntary.

Frequency of Collection: Annually.

Estimated Total Number of Annual Responses: 10-15.

Estimated Time per Response: 6 hours.

Estimated Annual Burden Hours: 90.

Total Estimated Annual Non-hour Burden Cost: There are no “non-hour cost” burdens associated with this IC.

An agency may not conduct or sponsor and you are not required to respond to a collection of information unless it displays a currently valid OMB control number.

The authorities for this action are the Paperwork Reduction Act of 1995 (44 U.S.C. 3501, et seq.).

Frank Kelly,
Director, Earth Resources Observation and Science Center, U.S. Geological Survey.

[FR Doc. 2017-25314 Filed 11-21-17; 8:45 am]

BILLING CODE 4311-AM-P